DEPARTMENT OF EDUCATION

[Docket No.: ED-2024-SCC-0053]

Agency Information Collection Activities; Comment Request; Evaluation of Transition Supports for Youth With Disabilities

Correction

In notice document 2024-06753, appearing on pages 22133-22134 in the issue of Friday, March 29, 2024, make the following correction:

On page 22133, in the third column, in the DATES: section, the entry “June 28, 2024” should read “May 28, 2024”.

[FR Doc. C1-2024-06753 Filed 4-2-24; 4:15 pm]

BILLING CODE 0099-10-D